ENVIRONMENTAL PROTECTION AGENCY

[FRL-6546-4]

Agency Compliance Assistance Activity Plan: Comment Request

AGENCY: Environmental Protection Agency (EPA).

ACTION: Notice.

SUMMARY: The U.S. Environmental Protection Agency's (EPA) Draft Annual Compliance Assistance Activity Plan (Plan) reflects EPA's commitment to help entities comply with regulatory requirements and improve environmental performance through compliance assistance. In this draft Plan, EPA catalogues compliance assistance activities planned across the entire Agency for FY 2001. This comprehensive approach allows interested stakeholders to understand the Agency's current compliance assistance priorities and activities and to suggest where tools or additional emphasis are still needed. The consolidated information will also assist compliance assistance providers in determining how to focus their resources without duplicating EPA's efforts. Additionally, the regulated community will be able to anticipate what compliance assistance will be available to them in the near future.

The Agency is seeking stakeholder input on the content, structure and usefulness of the Plan. EPA intends to utilize this feedback in the FY02 budget development process and the FY01 budget implementation process.

DATES: Comments must be submitted on or before April 17, 2000.

ADDRESSES: Interested persons may obtain a copy of the Annual Compliance Assistance Activity Plan from the Internet at www.seattle.battelle.org/epa-icaa. Copies may also be by obtained by contacting Joanne Berman at the contact information provided below.

FOR FURTHER INFORMATION CONTACT: Joanne Berman, (202) 564-7064; e-mail at berman.joanne@epa.gov; or by mail at U.S. Environmental Protection Agency, Office of Compliance, Mail Code 2224A, 1200 Pennsylvania Ave. NW, Washington, DC 20004.

SUPPLEMENTARY INFORMATION: The Agency is committed to listening to stakeholders as we continuously improve the way we do business. In early 1999 the Agency held a series of stakeholder meetings to ask how we can better serve our customers. The “Aiming for Excellence” report (Report) released by Administrator Browner in July 1999 responds to key issues raised during the stakeholder meetings. EPA's commitment to develop the Annual Agency Compliance Assistance Activity Plan is one of the most ambitious actions items identified in the Report.

Objectives of the Plan are to: (1) Identify and coordinate similar activities to leverage resources; (2) provide an inventory of the Agency activities to assist stakeholders in planning their activities; and (3) seek stakeholder input on the Agency's compliance assistance priorities. The FY01 Plan is the first attempt to undertake this intra-agency planning. EPA will strive to consider stakeholder comments as we begin implementing the FY01 activities, but any major change in strategic direction would be difficult since the Agency's FY01 budget submission already includes specific projects. However, stakeholder comments will have a more significant impact on the FY02 planning and budgeting cycle that begins this spring. It is the Agency's expectation that as future (FY02 and beyond) Plans are developed, stakeholder input will influence the directions in which we focus our compliance assistance resources.

Dated: February 25, 2000.
Michael M. Stahl,
Acting Director, Office of Compliance.

[FR Doc. 00-5043 Filed 3-1-00; 8:45 am]

BILLING CODE 6560-50-P